DEPARTMENT OF THE INTERIOR

National Park Service

General Management Plan and Environmental Impact Statement, Tumacacori National Historical Park, AZ

AGENCY: National Park Service, Department of the Interior.

ACTION: Notice of intent to prepare an environmental impact statement for the general management plan (GMP), Tumacacori National Historical Park.

SUMMARY: Pursuant to the National Environmental Policy Act of 1969, 42 U.S.C. 4332(2)(C), the National Park Service (NPS) is preparing an environmental impact statement for a general management plan for Tumacacori National Historical Park, Arizona. The environmental impact statement will be approved by the Director, Intermountain Region.

The general management plan will prescribe the resource conditions and visitor experiences that are to be achieved and maintained in the park over the next 15 to 20 years.

The clarification of what must be achieved according to law and policy will be based on review of the park's purpose, significance, special mandates, and the body of laws and policies directing park management. Based on determinations of desired conditions, the general management plan will outline the kinds of resource management activities, visitor activities, and development that would be appropriate in the future. A range of reasonable management alternatives will be developed through this planning process and will include, at a minimum, a no-action and a preferred alternative.

The NPS is required to prepare a GMP for all NPS units. A GMP was completed for the park in 1996, but it does not address the lands added to the park in 2002 or current NPS park planning standards or NPS management policies.

Issues to be addressed will include but are not limited to the following: The management of lands added to the park in 2002, as well as visitor use, facilities, access, interpretation, natural and cultural resources, and park operations in the park as a whole.

A scoping newsletter will be prepared that describes the issues identified to date. Copies of the newsletter may be obtained in April at the Tumacacori National Historical Park Visitor Center 1891 East Frontage Road, Tumacacori, Arizona 85640, Phone: 520-398-2341, the park Web site http://www.nps.gov/tuma, or on the Planning, Environment, and Public Comment (PEPC) Web site at http://parkplanning.nps.gov/tuma.

DATES: Any comments on the scope of issues to be addressed in the plan should be submitted no later than 120 days after publication of this notice. In addition to the newsletter, public meetings regarding the general management plan will be held during the scoping period. Specific dates, times, and locations will be made available in the local media, on the National Park Service Planning, Environment, and Public Comment (PEPC) Web site (http://parkplanning.nps.gov/tuma), or by contacting the Superintendent of Tumacacori National Historical Park.

ADDRESSES: Information will be available for public review and comment online at http://parkplanning.nps.gov/tuma, at the Tumacacori National Historical Park Visitor Center, 1891 East Frontage Road, Tumacacori, Arizona 85640, Phone: 520-398-2341.

FOR FURTHER INFORMATION CONTACT: Lisa Carrico, Superintendent, P.O. Box 8067, Tumacacori, Arizona 85640, Phone: 520-398-2341 or by e-mail at TUMA_Superintendent@nps.gov.

SUPPLEMENTARY INFORMATION: Public and agency involvement will be solicited at several key steps in the planning process including initial scoping, alternatives development, and the draft plan. If you wish to comment on any issues associated with the plan, you may submit your comments to the planning team by any one of several methods. You may mail comments to Tumacacori National Historical Park, Office of the Superintendent, P.O. Box 8067, Tumacacori, Arizona 85640. You may also comment via the Internet at http://parkplanning.nps.gov/tuma. Finally, you may hand-deliver comments to the park headquarters at 1895 East Frontage Road, Tumacacori, Arizona 85640. Before including your address, phone number, e-mail address, or other personal identifying information in your comment, you should be aware that your entire comment including your personal identifying information—may be made publicly available at any time. While you can ask us in your comment to withhold your personal identifying information from public review, we cannot guarantee that we will be able to do so. In addition, we will make all submissions from organizations or businesses, and from individuals identifying themselves as representatives or officials of organizations or businesses, available for public inspection in their entirety.

Dated: September 3, 2008.
Michael D. Snyder,
Director, Intermountain Region, National Park Service.

Editorial Note: This document was received in the Office of the Federal Register on Friday, January 2, 2009.

[FR Doc. E9-27 Filed 1-8-09; 8:45 am]

BILLING CODE 4312-DR-P